DEPARTMENT OF EDUCATION

National Institute on Disability and Rehabilitation Research—Notice of Proposed Long-Range Plan for Fiscal Years 2010-2014

AGENCY: Office of Special Education and Rehabilitative Services, Department of Education.

ACTION: Notice of proposed long-range plan for fiscal years 2010-2014.

SUMMARY: The Assistant Secretary for Special Education and Rehabilitative Services proposes the National Institute on Disability and Rehabilitation Research's (NIDRR's) Long-Range Plan (Plan) for fiscal years 2010 through 2014. Pursuant to section 202(h)(1) of the Rehabilitation Act of 1973, as amended, the Department is required to develop a plan for NIDRR that outlines NIDRR's priorities for rehabilitation research, demonstration projects, training, and related activities, and explains the basis for these priorities.

DATES: We must receive your comments on or before March 16, 2009.

ADDRESSES: Address all comments about the proposed Plan to Donna Nangle, U.S. Department of Education, 400 Maryland Avenue, SW., Room 6029, Potomac Center Plaza, Washington, DC 20202-2700. If you prefer to send your comments through the Internet, use the following address: NIDRR-Mailbox@ed.gov.

You must include the term “Long-Range Plan” in the subject line of your electronic message.

FOR FURTHER INFORMATION CONTACT: Donna Nangle. Telephone: (202) 245-7462 or by e-mail: donna.nangle@ed.gov.

If you use a telecommunications device for the deaf (TDD), call the Federal Relay Service (FRS), toll free, at 1-800-877-8339.

SUPPLEMENTARY INFORMATION: Invitation to Comment: We invite you to submit comments regarding the proposed Plan. To ensure that your comments have maximum effect in developing the final Plan, we urge you to identify clearly the specific area of the Plan that each comment addresses and to arrange your comments in the same order as the proposed Plan.

During and after the comment period, you may inspect all public comments about the proposed Plan on our Web site, at: http://www.ed.gov/about/offices/list/osers/nidrr/policy.html.

Assistance to Individuals With Disabilities in Reviewing the Record: On request we will provide an appropriate accommodation or auxiliary aid to an individual with a disability who needs assistance to review the comments or other documents in the public rulemaking record for this proposed Plan. If you want to schedule an appointment for this type of accommodation or auxiliary aid, please contact the person listed under FOR FURTHER INFORMATION CONTACT.

Background: In developing the research agenda in the proposed Plan, NIDRR considered: the legislative mandate for the Plan; consumer goals (as documented, for example, in public input on preparation of this Plan received via e-mail, the Web, and in a national teleconference in response to a notice published in the Federal Register and an e-mail solicitation inviting comment on the Plan); and scientific advances documented through state of the science conferences and literature.

The purposes of the proposed Plan are:

(1) To describe the broad general principles that will guide NIDRR's policies and use of resources;

(2) To establish objectives for research and related activities from which annual research priorities can be formulated; and

(3) To describe how NIDRR will operationalize the Plan, i.e., the process by which NIDRR establishes annual priorities.

The authority for the Secretary to establish the Plan is contained in section 202(h) of the Rehabilitation Act of 1973, as amended (29 U.S.C. 762(h)).

The proposed Plan is published as an attachment to this notice.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 9, 2009.
Tracy R. Justesen,
Assistant Secretary for Special Education and Rehabilitative Services.

National Institute on Disability and Rehabilitation Research: Long-Range Plan (Plan) for Fiscal Years (FYs) 2010-2014

I. Introduction

NIDRR's mission is to support research and related activities to generate new knowledge and promote its effective use in order to improve the lives of individuals with disabilities and their opportunities for full participation in society. The Plan presents goals, objectives, and strategies for NIDRR research investments for FYs 2010 through 2014 that are aligned with this mission and that may be implemented through funding priorities.

Statutory Mandate

NIDRR was established by the 1978 amendments to the Rehabilitation Act of 1973, as amended (Act). As specified in section 200 of the Act (29 U.S.C. 760), NIDRR's role is to: (a) Support research, demonstration projects, training, and related activities to maximize the full inclusion and integration into society, employment, independent living, family support, and economic and social self-sufficiency of individuals with disabilities of all ages; (b) provide for a comprehensive and coordinated approach to the support and conduct of research, demonstration projects, training, and related activities; (c) promote the transfer of rehabilitation technology; (d) ensure the widespread distribution of practical scientific and technological information; and (e) increase opportunities for researchers who are members of minority groups and researchers who are individuals with disabilities.

NIDRR implements its statutory mandate by supporting research and development projects to generate new knowledge and products, along with supporting knowledge translation and capacity building activities. Research and development are supported through a variety of program mechanisms described later in this document. Knowledge translation is a process of ensuring that new knowledge and products gained through research and development will ultimately be used to improve the lives of individuals with disabilities and further their participation in society. Knowledge translation is built upon and sustained by ongoing interactions, partnerships, and collaborations among various stakeholders, including researchers, practitioners, policy-makers, persons with disabilities, and others, in the production and use of such knowledge and products. Capacity building refers to building the infrastructure and increasing individual capability necessary to carry out relevant research and development.

NIDRR is administered within the Office of Special Education and Rehabilitative Services (OSERS) at the U.S. Department of Education. OSERS has two other components—the Rehabilitation Services Administration (RSA) and the Office of Special Education Programs (OSEP). RSA administers the State-Federal Vocational Rehabilitation program, the American Indian Vocational Rehabilitation Services program, the Assistive Technology State Grants program, Independent Living programs, and related programs. OSEP administers the Individuals with Disabilities Education Act (IDEA).

NIDRR works closely with other offices at the U.S. Department of Education, both within OSERS and throughout the agency. Furthermore, NIDRR has developed extensive linkages to the broader disability and rehabilitation research community through the Interagency Committee on Disability Research (ICDR), and through the development of significant partnerships with many Federal agencies, research institutions, businesses, employers, and consumer organizations.

NIDRR's Unique Role

Individuals with disabilities face daunting challenges in employment, housing, public accommodations and services, education, transportation, communications, recreation, health services, and civic participation. To maximize its effectiveness in addressing these and other challenges facing individuals with disabilities, NIDRR focuses on the whole person, whose ability to function and whose quality of life are dependent on the complex interaction of personal, societal, and environmental factors.

NIDRR's budget represents the largest single Federal investment in disability and rehabilitation research. Unlike other Federal research entities that support prevention, treatment, and acute rehabilitation research, NIDRR supports rehabilitation research that is more closely tied to longer term outcomes such as independence, community participation, and employment.

NIDRR's unique role in supporting rehabilitation research and development activities that are distinct from the research supported by other agencies also can be understood within the context of the World Health Organization's International Classification of Functioning, Disability, and Health (ICF) (World Health Organization, 2001). The ICF is a framework for classifying disability and health along a continuum from body function and structure to activities ¹ and participation,² in the context of environment and personal factors. The ICF is useful to explain NIDRR's role in the context of the overall field of Federal disability and rehabilitation research. Specifically, NIDRR's role is to support activities that increase the self-determination and participation of individuals with disabilities in the home, community, school, and workplace. To fulfill this role, NIDRR supports research that explores the interaction of individual characteristics and environmental factors and their effects on the participation of individuals with disabilities in these settings. NIDRR also supports a wide range of rehabilitation engineering development activities, many of which lead to the manufacture and commercialization of products to enhance function or enable individuals to live and work more independently.

¹ The World Health Organization, in the ICF, defines the term “activities” as “the execution of a task or action by an individual.”

² The term “participation” is defined as “involvement in a life situation.”

NIDRR Accomplishments

Over the span of its 30-year history, NIDRR's efforts in research and development, capacity building, and knowledge translation have resulted in advances in knowledge, changes in practice and policy, and the manufacturing of products that have improved the lives of individuals with disabilities and their families. Some of NIDRR's key achievements include supporting efforts that led to the following:

• Developing and advancing innovative practices in the fields of disability and rehabilitation, including universal design, identification of new types of disabilities, measurement of participation in valued life activities, identification of the effects of the environment on the function of people with disabilities, and the treatment and documentation of secondary conditions for individuals with disabilities.

• Establishing new standards of integrated care for individuals with spinal cord injury, traumatic brain injury, and burn injury through the model systems programs.

• Developing environmental accommodations such as closed captioning and accessible computer software.

• Developing assistive technology and design features to make everyday products accessible to individuals with disabilities, including products marketed by companies such as AOL, Microsoft, Hewlett-Packard (HP), Black & Decker, and Whirlpool.

• Improving national disability data and statistics by supporting analysis of major national sources of disability data and promoting data collection methods that include respondents with disabilities.

• Contributing to improved policies for individuals with disabilities in healthcare, independent living, employment, communications, and transportation.

II. Need for Employment Focus

Improving employment outcomes for individuals with disabilities has been a central research focus within NIDRR since its formation in 1978, and remains a major challenge today. However, there is a pressing need for additional research to improve access to appropriate employment, retention of employment, and career advancement for individuals with disabilities. Research is needed to help identify facilitators of employment for individuals with disabilities as well as ways to overcome barriers to employment.

Employment Status of and Trends for Individuals With Disabilities

Employment is the key to economic self-sufficiency. In addition, it facilitates social participation, provides personal identity, and ultimately contributes to satisfaction with life (National Council on Disability, 2007). However, the employment prospects of the 22.4 million (U.S. Census Bureau, 2006) individuals with disabilities lag behind other individuals, regardless of disability type and how employment status is characterized (see Table).

The aging of the population will be accompanied by an increase in the number of individuals with disabilities because individuals 45 and older experience a higher rate of disabilities than do younger individuals (Field and Jette, 2007, p. 17). Many of these individuals will continue to work past the age of 65.

The changes described in the preceding paragraph and other demographic trends toward increases in disability may result in a substantial increase in the number of individuals with disabilities in the workforce. Even if the current prevalence of disability by age group does not increase over the next several decades, the proportion of the population with disabilities can be expected to rise from approximately 15 percent to nearly 20 percent as the population ages (American Community Survey, 2006).

Working age group | Employment rate ³
Non-disabled individuals | 78.1
Disabled individuals:
Hispanics | 39.0
All individuals with disabilities | 37.8
Pacific Islanders | 37.4
American Indians and Alaska Natives | 32.4
African Americans | 29.6
³ These employment rates are based on U.S. Census Bureau (2006) calculations using the 2006 American Community Survey via the Census Bureau's DataFerret System.

The characteristics of individuals with disabilities seeking assistance to perform major life activities are changing as well. Many veterans of on-going conflicts between the United States and other countries are returning with disabilities. For example, from the beginning of Operation Iraqi Freedom in March 2003 through April 2008, 29,978 personnel have been wounded, and according to the Rand Corporation, approximately 40 percent of returning veterans sustained mild traumatic brain injury or post-traumatic stress disorder. Enabling these veterans to reenter the workforce has become an important issue for them and for the United States.

Among the working-age population with disabilities, U.S. Census data show that a large segment of this cohort is made up of individuals with long-term disabilities acquired at birth through early adulthood. Evidence from empirical studies funded by NIDRR indicates that many members of this cohort are at risk for new conditions and impairments that undermine their participation in valued life activities, and result in premature aging and premature retirement from the labor force compared to their non-disabled counterparts.

Improvements in health and function and community living are critical antecedents to improved employment for individuals with disabilities. New knowledge that prepares individuals with disabilities to work, maintain employment, and progress in a career can also benefit individuals who choose not to work or who are unable to work, to the extent that those individuals may wish to otherwise participate in their community. For example, a manual wheelchair user must be able to maintain good arm function to maintain mobility that may be needed for employment. However, improving arm function and mobility will assist the individual in other areas as well, including independent living and community participation.

The data and trends discussed above suggest just a few of the areas that need to be investigated to develop policy and practice recommendations to improve employment and economic security for individuals with disabilities. NIDRR has responded to this need by making the improvement of employment outcomes the focus of its long-range plan for FYs 2010-2014.

III. Strategic Focus

Focus of FYs 2010-2014 Long-Range Plan

To address the well-documented disparity in rates of employment for individuals with—as compared to individuals without—disabilities, NIDRR intends to invest in research and development to directly study workplace and workforce issues, other research activities that address health and function, rehabilitation, and technology barriers, which also affect participation and employment, and research to enhance the transition of students to postsecondary education and employment.

NIDRR proposes to use the goals, objectives, and strategies described in the following section to guide the development of grant priorities in the coming years. Focusing the Plan on employment and employment outcomes will not prevent NIDRR from continuing the work it is currently funding. NIDRR will maintain the broad array of mandated programs it currently supports (e.g., the rehabilitation engineering research centers and the spinal cord injury model systems program) and, where possible, will establish a link between each new priority it funds through these programs and employment outcomes. For example, NIDRR might propose a priority for research to test interventions that reduce secondary conditions that have an impact on work attendance. By focusing on employment outcomes, NIDRR will address a critical area needed to improve the lives of individuals with disabilities and advance the work of RSA.

As in its previous Plan, NIDRR's three goals, discussed in the following section, focus on research and development, knowledge translation, and capacity building. NIDRR's conceptualization of the units of analysis for employment research has three levels—individual, employer, and systems. ICF makes a distinction between functioning and disability, on one hand, and environmental factors, on the other (World Health Organization, 2001). The individual level unit of analysis falls within the functioning and disability component. The employer and systems levels are two major aspects of the ICF's environmental factors. The employer level includes all environmental factors related to the workplace. The systems level includes all other environments outside the workplace, as well as policies influencing employment practices.

Goals

Research and Development

Advance knowledge related to disability and rehabilitation through research and development, with particular emphasis on improving employment and participation outcomes for individuals with disabilities.

Objective 1.1: Increase knowledge of the educational, training, and socioeconomic factors that serve as facilitators of or barriers to improved employment outcomes for individuals with disabilities by supporting research and development on:

Strategy 1.1.1: Improving job preparedness and skills, including identification of the individual determinants of labor market success and the training and services needed to achieve success.

Strategy 1.1.2: Improving the hiring, retention, and promotion practices of employers.

Strategy 1.1.3: Identifying policy and systems changes that improve vocational training and services, reduce work disincentives, and increase employment opportunities and transitions across the lifecycle.

Objective 1.2: Increase knowledge of the health and function factors that serve as facilitators of or barriers to improved employment and participation outcomes by supporting research and development on:

Strategy 1.2.1: Reducing the occurrence of secondary disabling conditions, enhancing health and functional status, eliminating health disparities, and promoting wellness.

Strategy 1.2.2: Enhancing understanding of the health and wellness needs of employees with disabilities, and improving the quality and availability of health benefits, workplace supports, and disability management programs.

Strategy 1.2.3: Identifying policy and systems changes that improve access to health insurance and appropriate healthcare services, eliminating healthcare disparities, and increasing the availability and quality of health and wellness programs.

Objective 1.3: Increase understanding of environmental and community level factors that serve as facilitators of or barriers to improved employment and participation outcomes by supporting research and development on:

Strategy 1.3.1: Promoting self-determination and participation in social roles, reducing social isolation, enhance communication skills, and increasing independence and community living for individuals with disabilities.

Strategy 1.3.2: Identifying policy and systems changes that enhance self-determination and choice, support family caregiving and personal assistance services, and increase the availability of home and community-based services and supports that promote independence, safety and security, and community living.

Objective 1.4: Increase understanding of the assistive technology and environmental factors that serve as facilitators of or barriers to improved employment and participation outcomes by supporting research and development on:

Strategy 1.4.1: Increasing the use of assistive technologies that promote health and function, support self-determination and independence, enhance communication, reduce social isolation, and increase participation in the home, community, and workplace.

Strategy 1.4.2: Improving the availability, reducing the costs, and increasing the quality of workplace productivity enhancements, accommodations, and supports.

Strategy 1.4.3: Identifying policy and systems changes to increase the availability and affordability of assistive technologies and environmental adaptations that reduce barriers to employment, promote safety and security, and improve access to information technologies and opportunities for participation and community living.

Goal 2: Knowledge Translation

Increase the use of knowledge derived from NIDRR-funded research and development.

Objective 2.1: Increase understanding of models, methods, and strategies for knowledge translation in different settings and user groups.

Strategy 2.1.1: Advance understanding of barriers to and facilitators of knowledge translation.

Strategy 2.1.2: Investigate mechanisms for successful knowledge translation.

Strategy 2.1.3: Explore existing models, methods, and strategies from other fields that can be used to promote knowledge translation.

Objective 2.2: Optimize the scientific quality and relevance of knowledge derived from NIDRR-funded research and development projects.

Strategy 2.2.1: Include requirements in priorities that grantees optimize the relevance of knowledge for the intended users.

Strategy 2.2.2: Encourage the use of research designs and innovative methods that contribute to both scientific quality and relevance.

Objective 2.3: Increase the use of models, methods, and strategies for knowledge translation.

Strategy 2.3.1: Develop a knowledge translation model that sets forth NIDRR's desired knowledge translation outcomes, outputs, and measures with input and feedback from stakeholders.

Strategy 2.3.2: Promote the dissemination of knowledge generated through research and development by communicating in understandable language and formats that are accessible to all stakeholders, including policy makers.

Strategy 2.3.3: Optimize implementation of knowledge translation models, methods, and strategies by NIDRR grantees through effective professional development activities.

Goal 3: Capacity Building

Increase the capacity of institutions and individuals, particularly individuals with disabilities, to conduct high-quality disability and rehabilitation research and development.

Objective 3.1: Increase the capacity of institutions to conduct rigorous, scientifically based disability and rehabilitation research and development.

Strategy 3.1.1: Enhance the capacity of minority entities and Indian tribes to train disability researchers and to conduct high-quality disability and rehabilitation research and development.

Strategy 3.1.2: Encourage institutions involved in employment-related research to conduct research on employment of individuals with disabilities.

Strategy 3.1.3: Encourage institutions involved in disability research to focus on employment outcomes.

Strategy 3.1.4: Encourage institutions involved in disability research to focus on policy and systems issues that affect the participation and employment of individuals with disabilities.

Objective 3.2: Increase the number and capacity of individuals who conduct rigorous disability and rehabilitation research and development.

Strategy 3.2.1: Increase the participation of individuals with disabilities as researchers in NIDRR research and development.

Strategy 3.2.2: Enhance the ability of current researchers to conduct high-quality NIDRR research and development.

IV. Managing for Results

NIDRR Guiding Principles

In the pursuit of new knowledge to improve the lives and employment outcomes of individuals with disabilities, NIDRR will operate according to the following principles. These principles are essential to good stewardship of the public funds entrusted to NIDRR and to the provision of the maximum benefit to its primary stakeholders, individuals with disabilities.

• Relevance. NIDRR's research and development programs will respond to the needs of individuals with disabilities from diverse backgrounds and from underserved populations such as tribal nations, the needs of society, the state of scientific knowledge and technological development, and the U.S. Department of Education's priorities in order to enable individuals with disabilities and their families across the lifespan to make informed choices.

• Quality. NIDRR will fund rigorous scientifically based research and development that uses appropriate methods, and will evaluate the results of these projects through an independent peer review process.

• Multidisciplinary. NIDRR will encourage collaborative multidisciplinary research and development, representing a broad array of relevant fields to strengthen the capacity to solve problems in a creative, collaborative, and rigorous manner.

• Partnership. NIDRR will accomplish its mission in partnership with its constituents, including, but not limited to, academics, practitioners, individuals with disabilities, families, industry, other Federal agencies, professional communities, disability organizations, and advocates.

Management Strategy

Managing NIDRR research programs and projects involves many aspects:

• Provision of a results-oriented planning environment;

• Development of grant priorities;

• Selection of the most appropriate funding mechanisms from those available to NIDRR;

• Adherence to sound management principles;

• Commitment to an independent and effective peer review process;

• Project monitoring and evaluation; and

• Interagency research collaboration.

At its core, managing for results is a philosophy and practice that depends upon the availability of accurate data. NIDRR remains committed to improving its collection, analysis, evaluation, and presentation of data provided by its grantees and contractors.

Program Mechanisms

NIDRR has nine primary grant mechanisms for awarding funds:

Rehabilitation Engineering Research Centers (RERCs) conduct programs of advanced engineering and technical research designed to apply technology, scientific achievement, and psychological and social knowledge to solve rehabilitation problems and remove environmental barriers. RERCs are affiliated with institutions of higher education or non-profit organizations.

Rehabilitation Research and Training Centers (RRTCs) conduct coordinated and integrated advanced research to alleviate or stabilize disabling conditions, promote maximum social and economic independence of individuals with disabilities, or improve rehabilitation methodology or service delivery systems. RRTCs operate in collaboration with institutions of higher education and providers of rehabilitation services and serve as national centers of excellence in rehabilitation research.

Disability and Rehabilitation Research Projects (DRRPs) emphasize research and development projects, training, and knowledge translation on rehabilitation topics. DRRPs also provide funding for the model system programs for spinal cord injury, traumatic brain injury, and burn injury. The model systems provide innovative systems of comprehensive rehabilitation to, and collect longitudinal data from, individuals with these injuries.

Disability Business Technical Assistance Centers (DBTACs) are funded as DRRPs to provide information, technical assistance, and training in areas related to disability policy through a national network of regionally-based centers that provides assistance to disability organizations, individuals with disabilities, businesses, public agencies, and the general public, and that will contribute to research on topics covered under the Americans with Disabilities Act of 1990.

Spinal Cord Injury Model Systems (SCIMS) are statutorily established to support a network of Centers with model care of individuals after spinal cord injury, carrying out research and dissemination activities. NIDRR also supports traumatic brain injury and burn model systems, but these are funded through the DRRP mechanism.

Field Initiated Projects provide funding to address rehabilitation issues in promising and innovative ways. As the name implies, topics for these projects are chosen by the applicants. Awards are based upon merit and potential impact on the field of rehabilitation.

Advanced Rehabilitation Research Training Projects provide funding to institutions of higher education to recruit qualified post-doctoral individuals with clinical, management, or basic research experience and prepare them to conduct research on disability and rehabilitation issues.

Research Fellowships (known as Switzer Fellowships) give individual researchers an opportunity to develop new ideas and gain research experience. Fellows design and work for one year on an independent research project.

Small Business Innovation Research (SBIR) grants, as administered by NIDRR as a part of the larger mandatory SBIR program, help support the production of new assistive and rehabilitation technology. This two-phase program takes a rehabilitation-related product from development to market readiness.

Peer Review Process

NIDRR funds are awarded competitively through a rigorous peer review process to ensure the integrity of the NIDRR research portfolio. Researchers, methodologists, rehabilitation engineers, and other experts, including individuals with disabilities, serve on three-to seven-member panels. These experts review the proposals against the selection criteria in the application package for the competition; these selection criteria include, for example, methodological rigor, responsiveness to needs, cost effectiveness, plan of evaluation, and staff quality. Over the years, improvements in this peer review process have worked to increase the scientific rigor of NIDRR's research portfolio and its responsiveness to the needs of the disability and rehabilitation community.

Monitoring and Evaluation

NIDRR has adopted a project monitoring process that involves regular contact between project officers and principal investigators to ensure that activities and staffing are carried out as proposed, problems are promptly addressed and resolved, and the projects remain on track to produce the intended outcomes and outputs.

NIDRR evaluates the outcomes of grantee research to judge project productivity, economic value, and end-user satisfaction. Measures of success vary by goal and topic. However, NIDRR continues to enhance its system for tracking interventions and measurement instruments developed by grantees. These tracking data, along with patent counts, verify outcomes of research conducted by NIDRR grantees. For example, systematic reviews or meta-analyses are used to evaluate aggregated research outcomes. Bibliographic analysis also is used to determine NIDRR's contribution to the knowledge base by measuring the extent to which NIDRR-supported research articles are cited in the peer-reviewed research literature.

These data-driven activities result in new NIDRR-sponsored deliverables including: an independent and external agency evaluation; profiles of different funding mechanisms; and products displayed in a variety of formats such as written materials, exhibits, or electronic media (e.g., videoconferences, Webinars, or Podcasts). Equipped with these products, stakeholders have a better understanding of what NIDRR does and what new information and products are available.

V. References

Carlson, D., & Ehrlich, N. (2005). Assistive technology and information technology use and need by persons with disabilities in the United States, 2001. Washington, DC: National Institute on Disability and Rehabilitation Research, U.S. Department of Education [On-line]. Available: http://www.ed.gov/rschstat/research/pubs/at-use/at-use-2001.pdf.

Erickson, Tammy. (2008). The Project-Based Workforce. BusinessWeek. January 31, 2008.

Field, M., & Jette, A.M. (Eds.). (2007). The future of disability in America. Washington, DC: The National Academies Press.

National Council on Disability. (2007). Empowerment for Americans with disabilities: Breaking barriers to careers and full employment. Washington, DC: Author.

National Institute on Disability and Rehabilitation Research. (2006). Long-range plan for fiscal years 2005 through 2009 [On-line]. Available: http://www.ed.gov/legislation/FedRegister/other/2006-1/021506d.pdf.

Ross, C.E, & Mirowsky, J. (1995). Does employment affect health? Journal of Health and Social Behavior, 36(3), 230-243.

United States Census Bureau. (2006). Calculations using the 2006 American Community Survey via the Census Bureau's DataFerret System. American Community Survey. Available: http://www.census.gov/hhes/www/disability/2006acs.html.

World Health Organization. (2001). ICF: International classification of functioning, disability and health. Geneva: Author.

[FR Doc. E9-741 Filed 1-14-09; 8:45 am]

BILLING CODE 4000-01-P